DEPARTMENT OF EDUCATION

National Assessment Governing Board; Meeting

AGENCY: National Assessment Governing Board; Education.

ACTION: Notice of closed meeting.

SUMMARY: This notice sets forth the schedule and a proposed agenda of a forthcoming meeting of the Ad hoc Committee on State Participation of the National Assessment Governing Board. This notice also describes the functions of the Board. Notice of this meeting is required under Section 10(a)(2) of the Federal Advisory Committee Act.

DATES: September 11, 2000.

Time: 8:30 A.M.-3:30 P.M.

Location: Washington Court Hotel, 525 New Jersey Avenue, NW., Washington, DC, 20001, Telephone (202) 628-2100.

FOR FURTHER INFORMATION CONTACT: Sharif Shakrani, Deputy Executive Director, National Assessment Governing Board, Suite 825, 800 North Capitol Street, NW., Washington, DC, 20002-4233. Telephone: (202) 357-6938.

SUPPLEMENTARY INFORMATION: The National Assessment Governing Board is established under 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interest and national comparisons. Under P.L. 105-78, the National Assessment Governing Board is also granted exclusive authority over developing the Voluntary National Tests pursuant to contract number RJ97153001.

On September 11, 2000 the Ad hoc Committee for State Participation will hold a closed meeting from 8:30 a.m. to 3:30 p.m. to discuss the development of independent cost estimates to the proposed activities related to enhanced participation in NAEP testing. Some proposals or policy changes for enhanced NAEP participation may require contract modifications. Cost estimates for contract modifications will be discussed at this meeting. This meeting must be conducted in closed session because public disclosure of this information would likely have an adverse financial effect on the NAEP program. The discussion of this information would like to significantly frustrate implementation of a proposed agency action if conducted in an open session. Such matters are protected by exemption 9(B) of section 552b(c) of Title 5 U.S.C.

A summary of the activities of this closed meeting and other related matters which are informative to the public and consistent with the policy of the section 5 U.S.C. 552b(c), will be available to the public within 14 days after the meeting. Records are kept of all Board proceedings and are available for public inspection at the U.S. Department of Education, National Assessment Governing Board, Suite #825, 800 North Capitol Street, NW, DC from 8:30 a.m. to 5 p.m.

Dated: August 31, 2000.
Roy Truby,
Executive Director.

[FR Doc. 00-22801 Filed 9-5-00; 8:45 am]

BILLING CODE 4001-01-M